DEPARTMENT OF AGRICULTURE

Natural Resources Conservation Service

7 CFR Part 652

Technical Service Provider Assistance

CFR Correction

In Title 7 of the Code of Federal Regulations, Parts 400 to 699, revised as of Jan. 1, 2010, on page 565, in § 652.2, the first definition for “Technical service” is removed.

[FR Doc. 2010-32945 Filed 12-28-10; 8:45 am]

BILLING CODE 1505-01-D